DEPARTMENT OF THE INTERIOR

National Park Service

[2410-OYC]

Notice of Extension of Visitor Services—Mount Rainier National Park

AGENCY: National Park Service, Interior.

ACTION: Notice.

SUMMARY: Under the terms of the existing concession contract, the National Park Service intends to request an extension of visitor services in Mount Rainier National Park for a period not to exceed one year from the expiration date of the current contract.

DATES: Effective Date: January 1, 2013.

FOR FURTHER INFORMATION CONTACT: Deborah Harvey, Acting Chief, Commercial Services Program, National Park Service, 1201 Eye Street NW., 11th Floor, Washington, DC 20005; Telephone: 202-513-7156.

SUPPLEMENTARY INFORMATION: The listed concession authorization will expire by its terms on December 31, 2012. The National Park Service has determined that the proposed extension is necessary in order to avoid interruption of visitor services and has taken all reasonable and appropriate steps to consider alternatives to avoid such interruption.

Concession ID No. | Concessioner name | Park
MORA002-88 | Guest Services, Inc | Mount Rainier National Park.

Jo A. Pendry,
Acting Associate Director, Business Services.

[FR Doc. 2012-4372 Filed 2-24-12; 8:45 am]

BILLING CODE 4312-53-P